DEPARTMENT OF COMMERCE

National Oceanic and Atmospheric Administration

RIN 0648-XA549

Gulf of Mexico Fishery Management Council; Public Meeting

AGENCY: National Marine Fisheries Service (NMFS), National Oceanic and Atmospheric Administration (NOAA), Commerce.

ACTION: Council to convene a public meeting.

SUMMARY: The Gulf of Mexico Fishery Management Council will convene a meeting of the Standing, Special Reef Fish and Special Mackerel Scientific and Statistical Committees (SSC).

DATES: The meeting will convene at 1 p.m. on Tuesday, July 26, 2011 and conclude by 3 p.m., Thursday, July 28, 2011.

ADDRESSES: The meeting will be held at the Gulf of Mexico Fishery Management Council, 2203 North Lois Avenue, Suite 1100, Tampa, FL 33607; telephone: (813) 348-1630.

FOR FURTHER INFORMATION CONTACT: Steven Atran, Population Dynamics Statistician; Gulf of Mexico Fishery Management Council; telephone: (813) 348-1630.

SUPPLEMENTARY INFORMATION: The Standing, Special Mackerel and Special Reef SSC will meet jointly on Tuesday, July 26, 2011 to receive a presentation on the Southeast Data, Assessment and Review (SEDAR) process. The Standing and Special Mackerel SSC will review, revise if necessary, and approve the terms of reference for a SEDAR 28 benchmark assessment on Spanish mackerel and cobia to be conducted in 2012. The Standing and Special Reef Fish SSC will discuss the rationale for their previous recommendation that the 2012 SEDAR 31 red snapper assessment be changed from a standard assessment to a benchmark assessment, plus the potential benefits and drawbacks to requesting yield streams and managing the red snapper fishery in terms of numbers of fish rather than biomass. The Standing and Special Reef Fish SSC will then review, revise if necessary, and approve the terms of reference for the SEDAR 31 red snapper assessment. This assessment is currently scheduled to be conducted in 2012 as a standard assessment, but the Council, based on the recommendation of the SSC, has requested that it be a benchmark assessment.

The remainder of the meeting, July 27-28, will be a joint meeting of the Standing and Special Reef Fish SSC. The SSC will first receive a presentation from NOAA General Counsel on what constitutes best available scientific information. The SSC will then review and suggest modifications to the process for deciding levels of acceptable biological catch (ABC). This will include a review of the ABC control rule developed for the Generic Annual Catch Limits/Accountability Measures Amendment, a discussion of risk vs. uncertainty, and a review of the P* methodology for determining the buffer between the overfishing limit and ABC. Finally, the SSC will receive a report on an Ecosystem SSC meeting that was held June 28-30, 2011, and will discuss the role of the Ecosystem SSC with respect to the Standing SSC.

Copies of the agenda and other related materials can be obtained by calling (813) 348-1630 or can be downloaded from the Council's ftp site, ftp.gulfcouncil.org.

Although other non-emergency issues not on the agenda may come before the Scientific and Statistical Committees for discussion, in accordance with the Magnuson-Stevens Fishery Conservation and Management Act, those issues may not be the subject of formal action during this meeting. Actions of the Scientific and Statistical Committees will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Council (see ADDRESSES) at least 5 working days prior to the meeting.

Dated: July 1, 2011.
Tracey L. Thompson,
Acting Director, Office of Sustainable Fisheries, National Marine Fisheries Service.

[FR Doc. 2011-16985 Filed 7-6-11; 8:45 am]

BILLING CODE 3510-22-P